DEPARTMENT OF HOUSING AND URBAN DEVELOPMENT

[Docket No. FR-5415-N-25]

Notice of Availability: Notice of Funding Availability (NOFA) for HUD's Fiscal Year (FY) 2010 Choice Neighborhoods Initiative—Round 1 NOFA

AGENCY: Office of the Chief of the Human Capital Officer, HUD.

ACTION: Notice.

SUMMARY: HUD announces the availability on its Web site of the applicant information, submission deadlines, funding criteria and other requirements for the FY2010 Choice Neighborhoods—Round 1 NOFA. Approximately $65 million is made available through this NOFA, by the Consolidated Appropriations Act, 2010 (Pub. L. 111-117, approved December 16, 2009). The FY 2010 Choice Neighborhoods competition will be conducted through two rounds. Today's publication announces the posting of the Round 1 NOFA. In Round 1, applicants may submit either a Choice Neighborhood Planning Grant or a Choice Neighborhood Implementation Grant application. Upon conclusion of its review of Planning Grant applications submitted in response to the Round 1 NOFA, HUD will announce approximately 12-15 Planning Grant awards. Upon conclusion of its review of Implementation Grant applications submitted in response to the Round 1 NOFA, HUD will select approximately 10 Implementation Grant finalists. HUD will then publish a second NOFA (i.e., the Round 2 NOFA) and provide these Implementation Grant finalists an opportunity to assemble and submit a more detailed application.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Choice Neighborhood Initiative Program is 14.889. Applications must be submitted electronically through Grants.gov.

FOR FURTHER INFORMATION CONTACT: Questions regarding specific program requirements should be directed to the agency contact identified in the program NOFA. Questions regarding the 2010 General Section should be directed to the Office of Departmental Grants Management and Oversight at 202-708-0667 (this is not a toll-free number) or the NOFA Information Center at 1-800-HUD-8929 (toll-free). Persons with hearing or speech impairments may access these numbers via TTY by calling the Federal Information Relay Service at 1-800-877-8339.

Dated: August 26, 2010.
Barbara S. Dorf,
Director, Office of Departmental Grants, Management and Oversight, Office of the Chief of the Human Capital Officer.

[FR Doc. 2010-21734 Filed 8-30-10; 8:45 am]

BILLING CODE 4210-67-P